DEPARTMENT OF JUSTICE

Antitrust Division

Notice Pursuant to the National Cooperative Research and Production Act of 1993—Integrated Photonics Institute for Manufacturing Innovation Operating Under the Name of the American Institute for Manufacturing Integrated Photonics

Notice is hereby given that, on September 27, 2016, pursuant to Section 6(a) of the National Cooperative Research and Production Act of 1993, 15 U.S.C. 4301 et seq. (“the Act”), the Integrated Photonics Institute for Manufacturing Innovation operating under the name of the American Institute for Manufacturing Integrated Photonics (“AIM Photonics”) has filed written notifications simultaneously with the Attorney General and the Federal Trade Commission disclosing changes in its membership. The notifications were filed for the purpose of extending the Act's provisions limiting the recovery of antitrust plaintiffs to actual damages under specified circumstances. Specifically, Infinera Corporation, Sunnyvale, CA; Cadence Design Systems, Inc., San Jose, CA; Samtec, Inc., New Albany, IN; Raytheon Company, Waltham, MA; Precision Optical Transceivers, Brockport, NY; PhoeniX B.V. (PhoeniX Software), Enschede, NETHERLANDS; Harris Corporation, Melbourne, FL; finconTEC (USA) Corporation, San Clemente, CA; DISCO Hi-Tec America, Inc., Santa Clara, CA; The Boeing Company, Chicago, IL; Rochester Institute of Technology, Rochester, NY; University of Rochester, Rochester, NY; Rutgers, The State University of New Jersey, Piscataway, NJ; Quinsigamond Community College, Worcester, MA; Monroe Community College, Rochester, NY; Magic Leap, Inc., Dania Beach, FL; Ebara Technologies Incorporated, Sacramento, CA; IEC Electronics, Newark, NY; ITW Opto Diode, Camarillo, CA; New York Photonics, Rochester, NY; Quatela Lynch Intellectual Property, Rochester, NY; Space System Loral, Palo Alto, CA; Yenista Optics, Inc., Newbury Park, CA; Baker College of Flint, Flint, MI; IEEE Photonics Society, Piscataway, NJ; Luna Innovations Incorporated, Roanoke, VA; Silyb Wafer Services, Gig Harbor, WA; SPIE, Bellingham, WA; Transcat, Inc., Rochester, NY; Viewpoint Systems, Inc., Rochester, NY; and Phoenix Graphics, Inc., Rochester, NY have been added as parties to this venture.

No other changes have been made in either the membership or planned activity of the group research project. Membership in this group research project remains open, and AIM Photonics intends to file additional written notifications disclosing all changes in membership.

On June 16, 2016, AIM Photonics filed its original notification pursuant to Section 6(a) of the Act. The Department of Justice published a notice in the Federal Register pursuant to Section 6(b) of the Act on July 25, 2016 (81 FR 48450).

Patricia A. Brink,
Director of Civil Enforcement, Antitrust Division.

[FR Doc. 2016-26549 Filed 11-2-16; 8:45 am]

BILLING CODE 4410-11-P